FEDERAL COMMUNICATIONS COMMISSION

Revised Sunshine Notice* and Schedule Change: Open Commission Meeting, Thursday, February 20, 2003

Please note that the time for the Federal Communications Commission Open Meeting has been rescheduled from 9:30 a.m. to 11 a.m.

The Federal Communications Commission will hold an Open Meeting on the subject listed below on Thursday, February 20, 2003 which is scheduled to commence at 11 a.m. in Room TW-C305, at 445 12th Street, SW., Washington, DC.

Item No. | Bureau | Subject
1 | Wireline Competition | *Revised Title: Review of the section 251 Unbundling Obligations of Incumbent Local Exchange Carriers (CC Docket No. 01-338), Implementation of the Local Competition Provisions of the Telecommunications Act of 1996 (CC Docket No. 9698), and Deployment of Wireline Services Offering Advanced Telecommunications Capability (CC Docket No. 98-147). Summary: The Commission will consider a Report and Order concerning incumbent local exchange carriers' obligations to make elements of their networks available on an unbundled basis.

Additional information concerning this meeting may be obtained from David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events Web page at www.fcc.gov/realaudio. Audio and video tapes of this meeting can be purchased from CACI Productions, 341 Victory Drive, Herndon, VA 20170, telephone number (703) 834-1470, Ext. 19; fax number (703) 834-0111.

Notice: Due to the elevated homeland security alert announced February 7, 2003, the FCC has taken additional security precautions that will limit visitor access to the FCC headquarters building in Washington, DC. Until further notice, the Maine Avenue lobby is closed. All visitors must enter the building through the 12th Street lobby, and will require an escort at all times in the building.

Federal Communications Commission.
Marlene H. Dortch,
Secretary.

[FR Doc. 03-4461 Filed 2-21-03; 9:25 am]

BILLING CODE 6712-01-P